DEPARTMENT OF LABOR

Mine Safety and Health Administration

Petitions for Modification

The following parties have filed petitions to modify the application of existing safety standards under section 101(c) of the Federal Mine Safety and Health Act of 1977.

1. Emerald Coal Resources, LP

[Docket No. M-2005-072-C]

Emerald Coal Resources, LP, Three Gateway Center, 401 Liberty Avenue, Suite 1340, Pittsburgh, Pennsylvania 15222 has filed a petition to modify the application of 30 CFR 75.364(b)(1) (Weekly examination) to its Emerald No. 1 Mine (MSHA I.D. No. 36-05466) located in Greene County, Pennsylvania. The petitioner requests a modification of the existing standard to permit the use of air monitoring stations to monitor the longwall tailgate airflow in lieu of traveling the entry in its entirety. The petitioner asserts that due to deteriorating roof conditions, traveling the entry in its entirety would be unsafe. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before December 29, 2005. Copies of these petitions are available for inspection at that address.

Dated at Arlington, Virginia this 22nd day of November 2005.
Rebecca J. Smith,
Acting Director, Office of Standards, Regulations, and Variances.

[FR Doc. E5-6674 Filed 11-28-05; 8:45 am]

BILLING CODE 4510-43-P